ENVIRONMENTAL PROTECTION AGENCY

[FRL-8995-01-OW]

Meeting of the National Drinking Water Advisory Council

AGENCY: Environmental Protection Agency (EPA).

ACTION: Notice of a public meeting.

SUMMARY: The U.S. Environmental Protection Agency's (EPA) Office of Ground Water and Drinking Water is announcing a virtual meeting of the National Drinking Water Advisory Council (NDWAC or Council) as authorized under the Safe Drinking Water Act (SDWA). The purpose of the meeting is to allow members of the NDWAC's Consumer Confidence Report Rule Revision (CCR3) Working Group to present their preliminary recommendations to the Council on targeted issues relating to CCR rule revisions as required under the America's Water Infrastructure Act (AWIA) of 2018. Information about the CCR3 Working Group along with EPA's charge to the NDWAC, to provide advice and recommendations to the agency related to revisions of the CCR rule in the areas of accessibility challenges; advancing environmental justice to better support underserved communities; improving readability, understandability, clarity, and accuracy of information and risk communication of CCRs; and CCR delivery methods may be found on EPA's website at https://www.epa.gov/ndwac. The NDWAC will meet again at a later date to review the Working Group's final report to the Council and to develop advice and recommendations from the Council to EPA.

DATES: The meeting will be held on October 12, 2021, from 10:30 a.m. to 2:30 p.m. eastern time.

ADDRESSES: This will be a virtual meeting. There will be no in-person gathering for this meeting. For more information about attending, providing oral statements, and accessibility for the meeting, as well as sending written comments, see the SUPPLEMENTARY INFORMATION section of this document.

FOR FURTHER INFORMATION CONTACT: Elizabeth Corr, NDWAC Designated Federal Officer, Office of Ground Water and Drinking Water (Mail Code 4601), U.S. Environmental Protection Agency, 1200 Pennsylvania Avenue NW, Washington, DC 20460; telephone number: (202) 564-3798; email address: corr.elizabeth@epa.gov.

SUPPLEMENTARY INFORMATION:

Attending the Meeting: The meeting will be open to the general public. The meeting agenda and information on how to register for and attend the meeting online will be provided on EPA's website at https://www.epa.gov/ndwac prior to the meeting.

Oral Statements: EPA will allocate 60 minutes for the public to present oral comments during the meeting. Oral statements will be limited to five minutes per person during the public comment period. It is preferred that only one person present a statement on behalf of a group or organization. Persons interested in presenting an oral statement should send an email to OGWDWCCRrevisions@epa.gov by noon, eastern time, on October 4, 2021. The subject line of the email should be “Attention Elizabeth Corr: Request to present oral comments.”

Written Statements: Any person who wishes to file a written statement can do so before or after the Council meeting. Send written statements by email to OGWDWCCRrevisions@epa.gov or see the FOR FURTHER INFORMATION CONTACT section of this document if sending statements by mail. Written statements received by noon, eastern time, on October 5, 2021, will be shared with all members of the Council and the CCR3 Working Group prior to the meeting. Statements received after that time for up to 30 days after the meeting will become part of the permanent file for the meeting and will be shared with the Council and Working Group members after conclusion of the meeting.

Accessibility: For information on access or services for individuals with disabilities, or to request accommodations for a disability, please contact Elizabeth Corr by email at corr.elizabeth@epa.gov, or by phone at (202) 564-3798, preferably at least 10 days prior to the meeting to allow as much time as possible to process your request.

National Drinking Water Advisory Council: The NDWAC was created by Congress on December 16, 1974, as part of the Safe Drinking Water Act (SDWA) of 1974, Public Law 93-523, 42 U.S.C. 300j-5, and is operated in accordance with the provisions of the Federal Advisory Committee Act (FACA), 5 U.S.C. App. 2. The NDWAC was established to advise, consult with, and make recommendations to the EPA Administrator on matters relating to activities, functions, policies, and regulations under the SDWA. General information about the NDWAC is available at: https://www.epa.gov/ndwac.

Jennifer L. McLain,
Director, Office of Ground Water and Drinking Water.

[FR Doc. 2021-20498 Filed 9-21-21; 8:45 am]

BILLING CODE 6560-50-P